NUCLEAR REGULATORY COMMISSION

[Docket No. 40-8681-MLA-10, ASLBP No. 02-793-01-MLA]

International Uranium (USA) Corp.; Designation of Presiding Officer

Pursuant to delegation by the Commission, see 37 FR 28710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: International Uranium (USA) Corporation, White Mesa Uranium Mill (Source Material License Amendment).

The hearing will be conducted pursuant to 10 CFR part 2, subpart L, of the Commission's Regulations, “Informal Hearing Procedures for Adjudications in Materials and Operator Licensing Proceedings.” This proceeding concerns September 24, 2001 hearing requests submitted by the Utah Chapter of the Sierra Club, the City of Moab, and John Darke, respectively. The three requests were filed in response to a request from International Uranium (USA) Corporation (IUSA) to amend its source material license for its Blanding, Utah White Mesa Uranium Mill to receive and process alternate feed materials from the Maywood, New Jersey Formerly Utilized Sites Remedial Action Program site. The notice of receipt of the amendment and opportunity for a hearing was published in the Federal Register on August 23, 2001 (66 FR 44384).

The Presiding Officer in this proceeding is Administrative Judge Ivan Smith. Pursuant to the provisions of 10 CFR 2.722, 2.1209, Administrative Judge Richard F. Cole has been appointed to assist the Presiding Officer in taking evidence and in preparing a suitable record for review.

All correspondence, documents, and other materials shall be filed with Judges Smith and Cole in accordance with 10 CFR 2.1203. Their addresses are:

Administrative Judge Ivan Smith, Presiding Officer, Atomic Safety and Licensing Board Panel, U.S. Nuclear Regulatory Commission, Washington, D.C. 20555-0001

Dr. Richard F. Cole, Special Assistant, Atomic Safety and Licensing Board Panel, U.S. Nuclear Regulatory Commission, Washington, D.C. 20555-0001

Issued at Rockville, Maryland, this 1st day of October 2001.
G. Paul Bollwerk III,
Chief Administrative Judge, Atomic Safety and Licensing Board Panel.

[FR Doc. 01-25189 Filed 10-5-01; 8:45 am]

BILLING CODE 7590-01-P